FARM CREDIT SYSTEM INSURANCE CORPORATION

Farm Credit System Insurance Corporation Board; Regular Meeting

AGENCY: Farm Credit System Insurance Corporation.

SUMMARY: Notice is hereby given of the regular meeting of the Farm Credit System Insurance Corporation Board (Board).

DATES: The meeting of the Board will be held at the offices of the Farm Credit Administration in McLean, Virginia, on June 10, 2010, from 1 p.m. until such time as the Board concludes its business.

FOR FURTHER INFORMATION CONTACT: Roland E. Smith, Secretary to the Farm Credit System Insurance Corporation Board, (703) 883-4009, TTY (703) 883-4056.

ADDRESSES: Farm Credit System Insurance Corporation, 1501 Farm Credit Drive, McLean, Virginia 22102.

SUPPLEMENTARY INFORMATION: Parts of this meeting of the Board will be open to the public (limited space available) and parts will be closed to the public. In order to increase the accessibility to Board meetings, persons requiring assistance should make arrangements in advance. The matters to be considered at the meeting are:

Closed Session

• FCSIC Report on System Performance

Open Session

A. Approval of Minutes

• March 25, 2010 (Open and Closed)

B. Business Reports

• FCSIC Financial Report

• Report on Insured Obligations

• Quarterly Report on Annual Performance Plan

C. New Business

• Policy Statement Concerning Appraisals

• Mid-Year Review of Insurance Premium Rates

• FCSIC Strategic Plan FY 2010-2015

Dated: June 2, 2010.
Roland E. Smith,
Secretary, Farm Credit System Insurance Corporation Board.

[FR Doc. 2010-13605 Filed 6-7-10; 8:45 am]

BILLING CODE 6710-01-P